DEPARTMENT OF COMMERCE

Bureau of the Census

[Docket Number 050728205-5205-01]

Annual Trade Survey

AGENCY: Bureau of the Census, Commerce.

ACTION: Notice of consideration.

SUMMARY: The Bureau of the Census (Census Bureau) is proposing to expand the 2005 Annual Trade Survey (ATS) to include agents, brokers, and electronic markets (AGBR). The Census Bureau proposes this expansion at the request of the Bureau of Economic Analysis (BEA). The BEA considers this information vital to its accurate measurement of sales and value added for wholesale trade. These data are important inputs to BEA's preparation of National Income and Product accounts and its annual input-output tables.

DATES: Written comments must be submitted on or before October 20, 2005.

ADDRESSES: Direct all written comments to the Director, U.S. Census Bureau, Room 2049, Federal Building 3, Washington, DC 20233.

FOR FURTHER INFORMATION CONTACT: John R. Trimble, Chief, Annual Wholesale and Special Projects Branch, Service Sector Statistics Division, on (301) 763-7223, or by e-mail: John.R.Trimble@census.gov.

SUPPLEMENTARY INFORMATION: The Census Bureau is authorized to conduct surveys necessary to furnish current data on subjects covered by the major censuses authorized by Title 13, United States Code (U.S.C.), Sections 182, 224, and 225. Reporting by AGBR offices will be mandatory and will provide continuing and timely national statistical data. Data collected in this survey will be within the general scope, type, and character of those inquiries covered in the Economic Census.

The current ATS collects data for all merchant wholesalers. The expanded survey will include a selected sample of AGBRs that facilitate sales between businesses in the United States. These data will be a vital source for accurately measuring the sales, commissions, sales arranged for others, e-commerce, and operating expenses of these types of companies. The BEA has made repeated requests for this information. The expanded ATS will cover all sales from the wholesale sector compared to about 90 percent of sales in the present ATS sample.

Beginning with the survey year 2005, the goal will be to maximize industry coverage within our available resources. In order to establish reporting arrangements and reduce respondent burden, we will mail report forms to a sample of firms on a company basis and contact them in person, as well as by phone and mail. We will mail a survey introduction letter followed by report forms to the firms covered by this survey and require the report forms to be returned 30 days after receipt. The report forms will request similar data items, but different forms are needed to accommodate wholesale distributors, manufacturers' sales branches and offices (MSBOs), and AGBR companies, as well as both large and small firms. Later, if necessary, additional mail follow-ups and telephone follow-ups will be conducted.

The primary users of these data will be Federal, state and local government agencies, including the Census Bureau, BEA, and the Environmental Protection Agency. Other users will include business firms, academics, trade associations, and research and consulting organizations.

Executive Order 12866

This notice has been determined to be not significant for purposes of Executive Order 12866.

Regulatory Flexibility Act

The Chief Counsel for Regulation of the Department of Commerce certified to the Chief Counsel for Advocacy of the Small Business Administration that this notice would not have a significant economic impact on a substantial number of small entities. The Census Bureau is proposing to expand the 2005 ATS to includes AGBRs. If this notice of consideration is adopted, the expanded ATS would cover all sales from the wholesale sector compared to about 90 percent of sales in the present ATS sample.

If this notice is adopted, it is estimated that the survey will require an additional 514 respondents to respond to the survey. It is estimated that approximately 368 of the respondents would be small entities. The approximate total additional burden hours as a result of this rule is 238 hours (28 minutes per survey). This includes time for reviewing the instructions, searching existing data sources, gathering and maintaining the data needed, and completing and reviewing the information collection. The total cost is estimated to be $5,614 based on an annual response burden of 238 hours and a rate of $23.59 per hour to complete the form. The total cost to respondents that are small entities is estimated to be $3,892.

Because small businesses are subject to minimal recording-keeping and reporting burdens as a result of this notice, the Chief Counsel for Regulation certifies that this notice of consideration will not have a significant impact on a substantial number of small entities.

Paperwork Reduction Act

Notwithstanding any other provision of law, no person is required to respond to, nor shall a person be subject to a penalty for failure to comply with, a collection of information subject to requirements of the Paperwork Reduction Act (PRA), unless that collection of information displays a current valid Office of Management and Budget (OMB) control number. This notice contains a collection of information subject to the requirements of the PRA (44 U.S.C. 3501 et seq.). In accordance with the PRA, this collection of information will be submitted to OMB for approval. We estimate the number of additional respondents to be 514 and estimate an additional 238 annual burden hours with this expanded data collection. Also, we estimate that the time for the additional responses associated with this data collection will be approximately 28 minutes. We will furnish report forms to organizations included in the survey, and additional copies will be available upon written request to the Director, U.S. Census Bureau, Washington, DC 20233-0101.

Dated: September 13, 2005.
Charles Louis Kincannon,
Director, Bureau of the Census.

[FR Doc. 05-18605 Filed 9-19-05; 8:45 am]

BILLING CODE 3510-07-P